NATIONAL ARCHIVES AND RECORDS ADMINISTRATION

Request for Public Comment on Draft Electronic Records Policy Working Group Recommendations

AGENCY: National Archives and Records Administration (NARA).

ACTION: Notice of availability of document; request for comment.

SUMMARY: The Electronic Records Policy Working Group is inviting interested persons to provide their written views on its draft Recommendations for the Effective Management of Government Information on the Internet and Other Electronic Records. These recommendations are being submitted to the Interagency Committee for Government Information. The document is available at http://www.cio.gov/documents/ICGI/ERPWG_Recommendations.pdf. For a paper copy of the report, contact the person listed in FOR FURTHER INFORMATION CONTACT.

DATES: Comments must be received by November 24, 2004.

ADDRESSES: Send your comments to ERPWG@nara.gov or by fax to 301-837-0319.

FOR FURTHER INFORMATION CONTACT: Pamela Mason at 301-837-0975.

SUPPLEMENTARY INFORMATION: Section 207(e) of the E-Government Act of 2002 (Pub. L. 107-347) mandates that the Interagency Committee on Government Information recommend policies to ensure effective management of Government information on the Internet and other electronic records to the Director of the Office of Management and Budget (OMB) and the Archivist of the United States, by December 17, 2004. The Electronic Records Working Group was established by the Interagency Committee to address the requirements of subsection 207(e) of the Act, “Public Access to Electronic Information.” The Working Group's members are drawn from a number of Federal agencies, with NARA as the chair.

Dated: October 20, 2004.
Lewis J. Bellardo,
Deputy Archivist of the United States.

[FR Doc. 04-23920 Filed 10-22-04; 8:45 am]

BILLING CODE 7515-01-P